DEPARTMENT OF DEFENSE

Department of the Army; Corps of Engineers

Proposed Reduction in Hours of Operation at Okeechobee Waterway Ranging From the Atlantic Ocean at Stuart, FL to the Gulf of Mexico at Fort Myers, FL

AGENCY: Department of the Army, U.S. Army Corps of Engineers, DOD.

ACTION: Notice.

SUMMARY: The U.S. Army Corps of Engineers Jacksonville District is seeking comment from the public on a proposal to reduce the lock operating hours on the Okeechobee Waterway.

The new proposed operating hours at each of the five locks are 7 a.m. to 5 p.m., seven days a week. The proposed change would take effect no earlier than April 1, 2015 and would impact the following locks:

• Moore Haven Lock on the west side of Lake Okeechobee

• Ortona Lock near LaBelle

• Port Mayaca Lock on the east side of Lake Okeechobee

• St. Lucie Lock near Stuart

• W.P. Franklin Lock near Fort Myers

The changes are the result of an evaluation of the service levels at each lock as the U.S. Army Corps of Engineers seek methods to gain efficiencies on water transit systems across the nation. The changes will allow the U.S. Army Corps of Engineers to reduce costs while still maintaining operating hours that accommodate 95 percent of the boat traffic passing through the locks.

DATES: Submit written comments concerning this notice by February 13, 2015.

ADDRESSES: Written inquires can be sent to Mr. Carl Williams at U.S. Army Corps of Engineers South Florida Operations Office located at 525 Ridgelawn Road, Clewiston, Fl 33440. Email inquiries can be sent to PublicMail.CESAJ-CC@USACE.Army.mil. Please direct phone calls to 863-983-8101.

FOR FURTHER INFORMATION CONTACT: Mr. Carl Williams at U.S. Army Corps of Engineers South Florida Operations Office located at 525 Ridgelawn Road, Clewiston, Fl 33440.

SUPPLEMENTARY INFORMATION: Canaveral Lock near Port Canaveral will not be impacted by these changes. It will continue to operate from 6 a.m. to 9:30 p.m. daily. A Notice to Navigation will also be issued on this subject. For more information on navigation notices concerning Canaveral Lock or the Okeechobee Waterway, please visit the following Web site: www.saj.usace.army.mil

Jerry T. Murphy,
Deputy Chief, Operations Division.

[FR Doc. 2015-00399 Filed 1-13-15; 8:45 am]

BILLING CODE 3710-58-P